NATIONAL AERONAUTICS AND SPACE ADMINISTRATION

[NOTICE: (19-033)]

Name of Information Collection: Flight Analog Projects (FAP) Crew Selection Questionnaire

AGENCY: National Aeronautics and Space Administration (NASA).

ACTION: Notice of information collection—New

SUMMARY: The National Aeronautics and Space Administration, as part of its continuing effort to reduce paperwork and respondent burden, invites the general public and other Federal agencies to take this opportunity to comment on proposed and/or continuing information collections.

DATES: All comments should be submitted within 60 calendar days from the date of this publication.

ADDRESSES: All comments should be addressed to Gatrie Johnson, National Aeronautics and Space Administration, 300 E Street SW, Washington, DC 20546-0001.

FOR FURTHER INFORMATION CONTACT: Requests for additional information or copies of the information collection instrument(s) and instructions should be directed to Gatrie Johnson, NASA Clearance Officer, NASA Headquarters, 300 E Street SW, JF0000, Washington, DC 20546 or email Gatrie.Johnson@NASA.gov.

SUPPLEMENTARY INFORMATION:

I. Abstract

This site contains a questionnaire to become a crew/experiment subject for Flight Analog Project (FAP) missions such as Human Exploration Research Analog (HERA), Scientific International Research in a Unique Station (SIRIUS) and other analog studies. The questionnaire is used to screen potential applicants for initial qualifications. In addition, the website describes the FAP facilities and experiments conducted to inform and promote interest in the FAP missions.

II. Methods of Collection

Public website, Web Form.

III. Data

Title: FAP Crew Application.

OMB Number: 2700-xxxx.

Type of Review: New.

Affected Public: General Public.

Average Expected Annual Number of Activities: 1.

AverageNumber of Respondents per Activity: 100.

Annual Responses: 100.

Frequency of Responses: 1.

Average Minutes per Response: 15 minutes.

Burden Hours: 25.

IV. Request for Comments

Comments are invited on: (1) Whether the proposed collection of information is necessary for the proper performance of the functions of NASA, including whether the information collected has practical utility; (2) the accuracy of NASA's estimate of the burden (including hours and cost) of the proposed collection of information; (3) ways to enhance the quality, utility, and clarity of the information to be collected; and (4) ways to minimize the burden of the collection of information on respondents, including automated collection techniques or the use of other forms of information technology.

Comments submitted in response to this notice will be summarized and included in the request for OMB approval of this information collection. They will also become a matter of public record.

Gatrie Johnson,
NASA PRA Clearance Officer.

[FR Doc. 2019-11299 Filed 5-29-19; 8:45 am]

BILLING CODE 7510-13-P